DEPARTMENT OF TRANSPORTATION

Federal Aviation Administration

[Summary Notice No. PE-2002-20]

Petitions for Exemption; Summary of Petitions Received; Dispositions of Petitions Issued.

AGENCY: Federal Aviation Administration (FAA) DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication in, this aspect of FAA's regulatory activities. Neither publication of this notice nor the inclusion or omission of information in the summary is intended to affect the legal status of any petition or its final disposition.

DATES: Comments on petitions received must identify the petition docket number involved and must be received on or before April 17, 2002.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, Sandy Buchanan-Sumter (202) 267-7271, or Vanessa Wilkins (202) 267-8029, Office of Rulemaking (ARM-1) Federal Aviation Administration, 800 Independence Avenue, SW., Washington, DC 20591.

This notice is published pursuant to 14 CFR 11.85 and 11.91.

Issued in Washington, DC, on March 21, 2002.
Gary A. Michel,
Acting Assistant Chief Counsel for Regulations.

Petitions for Exemption

Docket No.: FAA-2001-11169

Petitioner: Lockheed Martin

Section of 14 CFR Affected: 14 CFR SFAR-88

Description of Relief Sought:

To permit Lockheed Model L-188 airplanes to operate without meeting the requirements of SFAR-88.

Dispositions of Petitions

Docket No: 30122

Petitioner: Bombardier Aerospace Dallas/Fort Worth Customer Training Center

Section of 14 CFR Affected: 14 CFR from 91.105(a) and 135.338(f)

Description of Relief Sought/Disposition:

To permit persons assigned as required crewmembers on aircraft operated by Bombardier Aerospace to temporarily relinquish their crewmember stations to Bombardier Aerospace DFW-CTC instructors for the purpose of meeting the requirements of 14 CFR 142.53(b)(1) when those instructors do no hold valid medical certificates issued by the FAA. In addition, the proposed exemption would permit individuals who meet the requirements of § 142.53(b)(1) to be considered to meet the requirements of § 135.338(f)(1).

Denial, 02/28/2002, Exemption No. 7732

Docket No.: FAA-2001-11011

Petitioner: Executive Jet International

Section of 14 CFR Affected: 14 CFR 135.152(j)

Description of Relief Sought/Disposition:

To permit EJI to operate one Gulfstream Model GV (GV) airplane (Serial No. 687) without that airplane being equipped with the required flight data recorder after the August 19, 2002, compliance date. The FAA notes that EJI did not own the indicated aircraft at the time the petition was submitted; the airplane manufacturer (Gulfstream Aerospace Incorporated) petitioned for relief on behalf of EJI, citing EJI's “willingness to accept” this GV airplane if the requested relief were granted.

Denial, 02/25/2002, Exemption No. 77735

[FR Doc. 02-7509 Filed 3-27-02; 8:45 am]

BILLING CODE 4910-13-M